DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On May 17, 2021, OFAC determined that the property and interests in property subject to U.S. jurisdiction of the following persons are blocked under the relevant sanctions authority listed below.

Individuals

1. AL-FAY, Ibrahim Ali 'Awad (a.k.a. “Abu Ali al-Samarra'i”), Sakarya, Turkey; DOB 1968; Gender Male (individual) [SDGT].

Designated pursuant to section 1(a)(iii)(B) of Executive Order 13224 of September 23, 2001, “Blocking Property and Prohibiting Transactions With Persons Who Commit, Threaten to Commit, or Support Terrorism”, 3 CFR, 2001 Comp., p. 786, as amended by Executive Order 13886 of September 9, 2019, “Modernizing Sanctions To Combat Terrorism,” 84 FR 48041 (E.O. 13224, as amended), for owning or controlling, directly or indirectly, AL FAY COMPANY, a person whose property and interests in property are blocked pursuant to E.O. 13224, as amended.

2. AL-FAY, Idris 'Ali 'Awwad (a.k.a. AL-FAY, Idris Ali Awad Khalif; a.k.a. KHALIF, Idris Ali 'Awad; a.k.a. “Abu Sayf al-Samara'i”; a.k.a. “Mullah Idris”), Owainat Village, Owainat District, Salah Ad Din Province, Iraq; Turkey; Albu Dur, Tikrit, Salah-ad Din Province, Iraq; DOB 01 Jul 1971; POB Albu Dur, Tikrit, Salah-ad Din Province, Iraq; nationality Iraq; Gender Male (individual) [SDGT].

Designated pursuant to section 1(a)(iii)(C) of E.O. 13224, as amended, having materially assisted, sponsored, or provided financial, material, or technological support for, or goods or services to or in support of, ISIS, a person whose property and interests in property are blocked pursuant to E.O. 13224, as amended.

3. KHANFURAH, Alaa (a.k.a. KHANFORA, Alaa; a.k.a. KHANFORAH, Mohammed Alaa Omer; a.k.a. KHANFOURA, Alaa; a.k.a. KHANFURAH, 'Ala'; a.k.a. KHANFURAN, Alaa), Reyhanli, Hatay, Turkey; DOB 01 Jan 1986; alt. DOB 1985; POB al-Habit, Syria; nationality Syria; Gender Male (individual) [SDGT].

Designated pursuant to section 1(a)(iii)(C) of E.O. 13224, as amended, having materially assisted, sponsored, or provided financial, material, or technological support for, or goods or services to or in support of, ISIS, a person whose property and interests in property are blocked pursuant to E.O. 13224, as amended.

Entity

1. AL FAY COMPANY, Building 54100, Adapazari, Sakarya Province, Turkey; Organization Type: Other monetary intermediation [SDGT].

Designated pursuant to section 1(a)(iii)(C) of E.O. 13224, as amended, having materially assisted, sponsored, or provided financial, material, or technological support for, or goods or services to or in support of, ISIS, a person whose property and interests in property are blocked pursuant to E.O. 13224, as amended.

Dated: May 17, 2021.
Bradley T. Smith,
Acting Director, Office of Foreign Assets Control, U.S. Department of the Treasury.

[FR Doc. 2021-11097 Filed 5-25-21; 8:45 am]

BILLING CODE 4810-AL-P